NATIONAL COUNCIL ON DISABILITY

Sunshine Act Meetings

TIME AND DATE: The Members of the National Council on Disability (NCD) will hold a quarterly business meeting on Thursday, June 27, 2024, 1:00 p.m.-5:00 p.m., Eastern Daylight Time (EDT).

PLACE: This meeting will occur via Zoom videoconference. Registration is required. Interested parties are encouraged to join the meeting in an attendee status by Zoom Desktop Client, Mobile App, or Telephone to dial-in. Updated information is available on NCD's event page at https://www.ncd.gov/meeting/2024-06-27-june-27-2024-council-meeting/. To register for the Zoom webinar, please use the following URL: https://events.zoomgov.com/ev/AjDobcDV_mghX7L5f6sWlxUKD_MJzSAnGh7A-lTuPauDUOd2E5XX~AvJyfkIR6R1x3lgp4sOiST1A5xJPGT-vG8sAh1wmhft2TgV6_-VtysUgUQ.

In the event of audio disruption or failure, attendees can follow the meeting by accessing the Communication Access Realtime Translation (CART) link provided. CART is text-only translation that occurs real time and is not an exact transcript.

MATTERS TO BE CONSIDERED: Following welcome remarks and introductions, the Executive Committee will provide their report; followed by the Chair's report; policy updates; a break; followed by a U.S. Department of Justice Access to Justice presentation, followed by Council member Q&A; a panel on NCD's Fetal Surgery to Germline Editing report, followed by Council member Q&A; a break; public comment on most notable disability policy achievements since Summer 2023; and Council member community report outs; concluding with adjournment.

Agenda: The times provided below are approximations for when each agenda item is anticipated to be discussed (all times Eastern Daylight Time):

Thursday, June 27, 2024

1:00-1:10 p.m.—Welcome, Call to Order

1:10-1:25 p.m.—Executive Committee Reports

1:25-1:35 p.m.—Chair's Report

1:35-2:05 p.m.—Policy Updates

2:06-2:15 p.m.—Break

2:15-2:59 p.m.—DOJ Access to Justice program presentation, Council Member Q&A

3:00-3:50 p.m.—Fetal Surgery/Germline Editing report panel

3:51-4:00 p.m.—Break

4:00-4:30 p.m.—Public Comment on most notable disability policy achievements

4:30-5:00 p.m.—Council Member Community Report Outs

5:00 p.m.—Adjourn

Public Comment: Your participation during the public comment period provides an opportunity for us to hear from you—individuals, businesses, providers, educators, parents and advocates. Your comments are important in bringing to the Council's attention and issues and priorities of the disability community. For the June 27 Council meeting, NCD will have a public comment session to receive perspectives on the most notable disability policy achievements from Summer 2023 to present. NCD asks for the top three achievements from each presenter. Additional information on specifics of the topic and guidelines are available on NCD's public comment page at https://www.ncd.gov/public-comment/.

Because of the virtual format, the Council will receive public comment by email or by video or audio over Zoom. To provide public comment during an NCD Council Meeting, NCD now requires advanced registration by either signing up to present while registering for the meeting or sending an email to PublicComment@ncd.gov with the subject line “Public Comment” and your name, organization, state, and topic of comment included in the body of your email. Deadline for registration is June 26, 8:00 p.m. EDT.

While public comment can be submitted on any topic over email, comments during the meeting should be specific to most notable disability policy achievements, as the input is needed for an upcoming report.

If any time remains following the conclusion of the comments of those registered, NCD may call upon those who desire to make comments but did not register.

CONTACT PERSON FOR MORE INFORMATION: Nicholas Sabula, Public Affairs Specialist, NCD, 1331 F Street NW, Suite 850, Washington, DC 20004; 202-272-2004 (V), or nsabula@ncd.gov.

Accommodations: An ASL interpreter will be on-camera during the entire meeting, and CART has been arranged for this meeting and will be embedded into the Zoom platform as well as available via streamtext link. The web link to access CART (in English) is: https://www.streamtext.net/player?event=NCD.

If you require additional accommodations, please indicate on the registration form or notify Stacey Brown by sending an email to sbrown@ncd.gov as soon as possible, no later than 24 hours before the meeting.

Due to last-minute confirmations or cancellations, NCD may substitute items without advance public notice.

Dated: June 11, 2024.
Anne C. Sommers McIntosh,
Executive Director.

[FR Doc. 2024-13191 Filed 6-11-24; 4:15 pm]

BILLING CODE 8421-02-P